DEPARTMENT OF DEFENSE

Department of the Army; Corps of Engineers

Notice of Availability of the Draft Environmental Impact Report/Environmental Impact Statement for the Carryover Storage and San Vicente Dam Raise Project, San Diego County, CA

AGENCY: U.S. Army Corps of Engineers, DOD.

ACTION: Notice of availability.

SUMMARY: The U.S. Army Corps of Engineers and the San Diego County Water Authority (Water Authority), as Co-Lead Agencies, have prepared a Draft Environmental Impact Report/Environmental Impact Statement (EIR/EIS) for the Carryover Storage and San Vicente Dam Raise Project (CSP). The overall purpose of the CSP is to substantially increase the reliability and flexibility of the regional water supply by providing the Water Authority with facilities to accumulate and store approximately 100,000 acre feet (AF) of water by the year 2011. During dry weather periods, increased regional demand for water may exceed local supplies resulting in potential water shortages. Water would be accumulated, when it is available, from a variety of sources and, once stored, would provide a reliable reserve against shortages when supply sources are limited. This type of operation is well suited for improving storage reliability during droughts. The EIR/EIS assesses the environmental effects of the CSP at San Vicente Reservoir (Proposed Action) and the proposed alternatives.

DATES: Comments concerning this Draft EIR/EIS should be submitted by October 9, 2007.

ADDRESSES: Submit written comments to Mr. Robert R. Smith, Regulatory Project Manager, U.S. Army Corps of Engineers, Rancho Bernardo Branch Office, ATTN: File Number 200601015-RRS, 16885 West Bernardo Drive, Suite 300A, San Diego, CA 92127; and to Ms. Kelley Gage, Senior Water Resources Specialist, San Diego County Water Authority, 4677 Overland Avenue, San Diego, CA 92123.

FOR FURTHER INFORMATION CONTACT: Mr. Robert R. Smith, Regulatory Project Manager, U.S. Army Corps of Engineers, Rancho Bernardo Branch Office, at (858) 674-6784; or Ms. Kelley Gage, Senior Water Resources Specialist, San Diego County Water Authority, at (858) 522-6763.

SUPPLEMENTARY INFORMATION: 1. Authorization: The U.S. Army Corps of Engineers, Los Angeles District, Regulatory Branch is considering an application from the Water Authority for a Department of the Army permit under Section 404 of the Clean Water Act to construct the Proposed Action. The primary Federal concern is the discharge of fill materials (including permanent inundation) within Federal jurisdictional areas and waters of the United States, and potential impacts on the human environment from such activities. The Corps' decision will be to either issue or deny a Department of the Army permit for the Proposed Action.

The EIR/EIS has been prepared as a joint document in accordance with the California Environmental Quality Act (CEQA) and State CEQA Guidelines (CCR Title 14, 15082(a), 15103, and 15375); the National Environmental Policy Act (NEPA) (42 U.S.C. 4321 et seq.) and its implementing regulations (40 CFR Part 1500 et seq.); the Corps Procedures for Implementing NEPA (33 CFR Part 230); and with other appropriate federal laws and regulations, policies, and procedures of the Corps for compliance with those regulations.

2. Background: In August 1996, the Water Authority approved the Emergency Storage Project (ESP) to provide local water storage to meet emergency needs within the Water Authority's service area. The approved ESP includes the following major components: A new dam, pipeline, and pump station at Olivenhain (complete); the Lake Hodges Pump Station and pipeline (under construction); the San Vicente Pipeline (under construction); and the San Vicente Pump Station/Surge Control Facility (in design). The ESP also includes expansion of the existing San Vicente Reservoir by raising the existing San Vicente Dam by 54 feet, providing approximately 52,100 AF of emergency water storage capacity.

The ESP was evaluated in an EIR/EIS for which the Water Authority was Lead Agency under CEQA and the Corps was Lead Agency under NEPA. The Water Authority Board of Directors certified the Final EIR/EIS on August 15, 1996. The Corps issued a Record of Decision (ROD) for the EIR/EIS on August 4, 1997, and an Individual Permit under Section 404 of the Clean Water Act (Permit No. 95-2009200-DZ) on August 18, 1997.

The Water Authority completed a Regional Water Facilities Master Plan (Master Plan) in December 2002. The Master Plan contains an evaluation of the facilities and resources the Water Authority will need to fulfill its mission of providing a safe and reliable supply of water to its member agencies through the year 2030. The Master Plan identified an immediate need for additional carryover storage for the region, and identified an additional expansion of San Vicente Reservoir to include 100,000 AF of carryover storage as a component of each alternative. The Water Authority was the Lead Agency under CEQA for the Master Plan Program EIR, which was certified by the Water Authority Board on November 20, 2003.

3. Proposed Action: The Water Authority will be raising San Vicente Dam by 54 feet to provide approximately 52,100 AF of emergency water storage capacity in San Vicente Reservoir as part of the ESP. The Proposed Action involves an additional dam raise of 63 feet to provide approximately 100,000 AF of carryover storage capacity in the reservoir as part of the CSP. Because it would not be feasible or practicable to construct two separate raises of the dam due to issues such as cost, safety of the raised dam structure, and construction logistics, the two increases would be combined and constructed at the same time. Under both the ESP and CSP dam raises, the existing 220-foot high concrete gravity dam would be raised by as much as 117 feet using roller compacted concrete, expanding the usable reservoir volume by up to 152,100 AF to provide both ESP and CSP storage.

4. Alternatives: Three alternatives are evaluated in the Draft EIR/EIS, including the “No Action” Alternative; a new dam and 100,000 AF reservoir in Moosa Canyon near Valley Center in San Diego County, California (Moosa 100K Alternative); and a reduced raise of San Vicente Dam providing 50,000 AF of carryover storage capacity in San Vicente Reservoir, combined with a smaller new dam and 50,000 AF reservoir in Moosa Canyon (SV 50K/Moosa 50K Alternative).

5. Scoping Process: To initiate the public scoping process for the EIR/EIS in accordance with CEQA and NEPA guidelines, the U.S. Army Corps of Engineers (Corps) published a Notice of Intent (NOI) in the Federal Register on October 10, 2006 (71 FR 59499), and the San Diego County Water Authority (Water Authority) circulated a Notice of Preparation (NOP) through direct mailings and published a legal notice in the San Diego Union Tribune on October 8, 2006. The 30-day public review period for the NOI and NOP ended November 9, 2006. In addition, the Army Corps of Engineers and Water Authority conducted a scoping meeting prior to preparing the EIR/EIS to aid in determining the significant environmental issues associated with the Proposed Action. The meeting was held at the San Diego County Water Authority, 4677 Overland Avenue, San Diego, California, on November 1, 2006. An additional public meeting (“Community Forum”) was held in the Lakeside community on December 11, 2006. Although conducted outside the official NOI/NOP public scoping period, the Lead Agencies have agreed to give the comments received at the Lakeside Community Forum the same weight as those received during the NOI/NOP public scoping period, and are equally addressed in the EIR/EIS.

Two public hearings to receive comments on the Draft EIR/EIS will be held by the Army Corps of Engineers and the Water Authority. The locations and times for the public hearings are as follows:

• Lakeside Community Center, 9841 Vine St., Lakeside, CA, 92040 at 6:30 PM on October 8, 2007.

• Valley Center High School, Maxine Theater, 31322 Cole Grade Road, Valley Center, CA 92082, at 6:30 p.m., on October 11, 2007.

These public hearings will be announced in the local news media, and separate notice will also be sent to all parties on the project mailing list.

Participation by all interested Federal, State and County resource agencies, as well as Native American peoples, groups with environmental interests, and all interested individuals is encouraged. The public review period will conclude 45 days after publication of this notice.

Individuals and agencies may offer information or data relevant to the environmental or socioeconomic impacts by attending the above-referenced public meetings, or by mailing the information to Mr. Robert R. Smith or to Ms. Kelley Gage at the addresses provided in this notice prior to October 15, 2007. The U.S. Army Corps of Engineers and the Water Authority will consider public concerns on the Draft EIR/EIS. A summary of the public meetings and written comment letters and responses will be incorporated into the Final EIR/EIS as appropriate.

The Final EIR/EIS will be considered and acted upon by the Water Authority's Board of Directors at a noticed public hearing. The Corps will sign the Record of Decision at least 30 days after the Notice of Availability of the Final EIR/EIS. Comments, suggestions, and requests to be placed on the mailing list for announcements and for the Draft Final EIR/EIS, should also be sent to Mr. Smith or Ms. Gage.

6. Availability of the Draft EIR/EIS: The Draft EIR/EIS and appendices are available for review and downloading from the Water Authority's Internet Web page at the following address: http://www.sdcwa.org. Copies of the Draft EIR/EIS and all documents referenced in the Draft EIR/EIS are available for public review by appointment at the Water Authority offices at the address provided in this notice. Please contact Ms. Kelley Gage at the Water Authority at (858) 522-6763 to set up an appointment. Please note that only qualified individuals will be allowed to review the confidential cultural resources appendices. Copies of the Draft EIR/EIS and appendices are also available for public review at the following locations:

(1) Lakeside Public Library, 9839 Vine Street, Lakeside, CA 92040.

(2) Valley Center Public Library, 29200 Cole Grade Road, Valley Center, CA 92082.

Mark Durham,
Chief, South Coast Branch, Los Angeles District, U.S. Army Corps of Engineers.

[FR Doc. E7-16696 Filed 8-23-07; 8:45 am]

BILLING CODE 3710-KF-P